DEPARTMENT OF ENERGY

Federal Energy Regulatory Commission

[Docket No. PF14-8-000]

Transcontinental Gas Pipeline Company, LLC; Notice of Intent To Prepare an Environmental Impact Statement for the Planned Atlantic Sunrise Expansion Project Request for Comments on Environmental Issues, and Notice of Public Scoping Meetings

The staff of the Federal Energy Regulatory Commission (FERC or Commission) will prepare an environmental impact statement (EIS) that will address the environmental impacts of the Atlantic Sunrise Expansion Project (Project). This planned Project would involve construction and operation of facilities by Transcontinental Gas Pipeline Company, LLC (Transco), a subsidiary of Williams Partners L.P. (Williams), in Pennsylvania, Virginia, Maryland, North Carolina, and South Carolina. The Commission will use this EIS in its decision-making process to determine whether the project is in the public convenience and necessity.

This notice announces the opening of the scoping process that the Commission will use to gather input from the public and interested agencies on the Project. Your input will help the Commission staff determine what issues need to be evaluated in the EIS. Please note that the scoping period will close on August 18, 2014.

You may submit comments in written form or verbally. Further details on how to submit written comments are in the Public Participation section of this notice. In lieu of or in addition to sending written comments, the Commission invites you to attend the public scoping meetings scheduled as follows:

Date and time | Location
August 4, 2014, 7 to 10 PM | Millersville University, Student Memorial Center, 21 South George Street, Millersville, PA 17551.
August 5, 2014, 7 to 10 PM | Lebanon Valley College, Arnold Sports Center, 101 North College Ave., Anneville, PA 17003.
August 6, 2014, 7 to 10 PM | Bloomsburg University, Haas Center for the Arts, 400 East Second Street, Bloomsburg, PA 17815.
August 7, 2014, 7 to 10 PM | Lake Lehmon High School, 1128 Old Route 115, Dallas, PA 18612.

Williams staff will be available for an open house from 6:00 to 7:00 p.m., prior to the public scoping meetings at the listed locations.

This notice is being sent to the Commission's current environmental mailing list for this Project. State and local government representatives are asked to notify their constituents of this planned Project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Summary of the Planned Project

Transco plans to construct and operate certain facilities in Pennsylvania, Maryland, Virginia, North Carolina, and South Carolina which would provide about 1,700,000 dekatherms per day of natural gas transportation service from various receipt points in Pennsylvania to various delivery points along Transco's existing interstate pipeline system.

The planned Project would consist of the following components:

• Construction of approximately 177.3 miles of new 30- and 42-inch-diameter pipelines in Columbia, Lancaster, Lebanon, Luzerne, Northumberland, Schuylkill, Susquehanna, and Wyoming Counties, Pennsylvania;

• construction of approximately 12 miles of new 36- and 42-inch-diameter pipeline loops ¹ in Clinton and Lycoming Counties, Pennsylvania;

¹ A pipeline loop is a segment of pipe constructed parallel to an existing pipeline to increase capacity.

• replacement of 2.5 miles of 30-inch-diameter pipeline in Prince William County, Virginia;

• construction of two new compressor stations:

Compressor Station 605—installation of two electric-driven Solar Mars 100S 15,000-horsepower compressors in Susquehanna, Pennsylvania; and

Compressor Station 610—installation of one electric-driven Solar Titan 250S 30,000-horsepower compressor and one electric-driven Solar Titan 130S 20,500-horsepower compressor in Columbia County, Pennsylvania;

• installation of additional compression at three existing compressor stations:

Compressor Station 520—installation of one 16,000-horsepower Solar Mars 100S gas turbine in Lycoming County, Pennsylvania;

Compressor Station 517—installation of one 16,000-horsepower Solar Mars 100S gas turbine in Columbia County, Pennsylvania; and

Compressor Station 190—installation of one 25,000-horsepower electric-driven compressor in Howard County, Maryland;

• modifications at six existing compressor stations in Virginia and North Carolina to allow bi-directional flow and/or installation of supplemental odorization, odor detection, and odor masking/deodorization equipment;

• construction of two meter stations and three regulator stations:

Zick Meter Station—a new receipt meter station and pig ² launcher in Susquehanna, Pennsylvania;

² A pig is a tool that can be used to clean and dry a pipeline and/or to inspect it for damage or corrosion.

Oswego Meter Station—a new receipt meter station in Susquehanna, Pennsylvania;

Regulator Station—a new regulator station at milepost (MP) L92.7 along the Transco Leidy Line system;

Regulator Station—a new regulator station and pig launcher/receiver at MP L113.8 along the Transco Leidy Line system; and

Regulator Station—a new regulator station and pig receiver at MP 1682.7 along the Transco Mainline system;

• installation of mainline valve assemblies at multiple locations along the planned pipeline segments; and

• installation of supplemental odorization, odor detection, and odor masking/deodorization equipment at various meter stations and valve sites in North Carolina and South Carolina.

The general location of the planned project facilities is shown in Appendix 1.³

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Transco is still in the planning phase of the Project and workspace requirements have not been finalized. However, Transco is planning on using a 100-foot-wide construction right-of-way for the 42-inch-diameter pipeline segments and a 90-foot-wide construction right-of-way for the 30- and 36-inch-diameter pipeline segments. Following construction, Transco would retain a 50-foot-wide easement for operation of the pipelines. Transco would also require land for additional workspaces at road, railroad, waterbody, and wetland crossings; topsoil storage; access roads; storage or pipeyards; and other purposes during construction.

The EIS Process

The National Environmental Policy Act (NEPA) requires the Commission to take into account the environmental impacts that could result from an action whenever it considers the issuance of a Certificate of Public Convenience and Necessity. NEPA also requires us ⁴ to discover and address concerns the public may have about proposals. This process is referred to as scoping. The main goal of the scoping process is to focus the analysis in the EIS on important environmental issues. By this notice, the Commission requests public comments on the scope of issues to address in the EIS. We will consider all filed comments during the preparation of the EIS.

⁴ “We,” “us,” and “our” refer to the environmental staff of the Commission's Office of Energy Projects.

In the EIS, we will discuss impacts that could occur as a result of the construction and operation of the planned Project under these general headings:

• Geology;

• soils;

• water resources and wetlands;

• vegetation and wildlife;

• fisheries and aquatic resources;

• threatened, endangered, and other special-status species;

• land use, recreation, special interest areas, and visual resources;

• socioeconomics;

• cultural resources;

• air quality;

• noise;

• reliability and safety; and

• cumulative environmental impacts.

We will also evaluate possible alternatives to the planned Project or portions of the Project, and make recommendations on how to lessen or avoid impacts on the various resource areas.

Although no formal application has been filed, we have already initiated our NEPA review under the Commission's Pre-filing Process. The purpose of the Pre-filing Process is to encourage early involvement of interested stakeholders and to identify and resolve issues before the FERC receives an application. As part of our pre-filing review, we participated in public Open House meetings sponsored by Transco in the project area in May and June 2014 to explain the environmental review process to interested stakeholders. We have also begun to contact federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please follow the instructions in the Public Participation section beginning on page 7.

With this notice, we are asking agencies with jurisdiction and/or special expertise with respect to environmental issues related to this Project to formally cooperate with us in the preparation of the EIS ⁵. Agencies that would like to request cooperating agency status should follow the instructions for filing comments provided under the Public Participation section of this notice. Currently, the U.S. Army Corps of Engineers has expressed its intention to participate as a cooperating agency in the preparation of the EIS to satisfy its NEPA responsibilities related to this Project.

⁵ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Offices and to solicit their views and those of other government agencies, interested Indian tribes, and the public on the Project's potential effects on historic properties.⁶ We will define the project-specific Area of Potential Effects (APE) in consultation with the SHPOs as the project develops. On natural gas facility projects, the APE at a minimum encompasses all areas subject to ground disturbance (examples include the construction right-of-way, contractor/pipe storage yards, compressor stations, and access roads). Our EIS for this Project will document our findings on the impacts on historic properties and summarize the status of consultations under section 106.

⁶ The Advisory Council on Historic Preservation's regulations are at Title 36, Code of Federal Regulations, Part 800. Historic properties are defined in those regulations as any prehistoric or historic district, site, building, structure, or object included in or eligible for inclusion in the National Register of Historic Places.

Currently Identified Environmental Issues

We have already identified several issues that we think deserve attention based on a preliminary review of the planned facilities, comments filed with the FERC, comments made to us at Transco's open houses, preliminary consultations with other agencies, and the environmental information provided by Transco. This preliminary list of issues may be changed based on your comments and our analysis:

• Impacts on forested areas including fragmentation;

• impacts on agricultural areas including impacts to soils;

• impacts on residential areas;

• impacts on property values;

• impacts on recreational areas including parks and nature preserves;

• impacts on the Appalachian Trail;

• impacts on surface water including the Chesapeake Bay;

• impacts on groundwater including wells and springs;

• impacts on wildlife and vegetation;

• impacts on federal and state-listed threatened, endangered, and sensitive species;

• impacts on quarries or mining;

• geologic hazards including karst and seismic areas;

• impacts on air quality due to construction and operation;

• impacts related to noise during construction and operation;

• assessment of alternatives including the no action alternative and system alternatives consisting of various combinations of looping Transco's existing system and/or replacing existing pipeline with larger diameter pipeline and adding compression;

• assessment of alternative pipeline routes and compressor station locations;

• visual and other impacts from forest clearing;

• eminent domain; and

• cumulative impacts.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before August 18, 2014.

For your convenience, there are three methods you can use to submit your comments to the Commission. In all instances, please reference the project docket number (PF14-8-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined by the Commission's regulations) who are potential right-of-way grantors, whose property may be used temporarily for project purposes, or who own homes within certain distances of aboveground facilities, and anyone who submits comments on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of a CD version or would like to remove your name from the mailing list, please return the attached Information Request (appendix 2).

Becoming an Intervenor

Once Transco files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF14-8). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Public meetings or site visits will be posted on the Commission's calendar located at www.ferc.gov/EventCalendar/EventsList.aspx along with other related information.

Finally, Transco has established a toll-free phone number (1-844-785-0455) and an email support address (AtlanticSunrise@Williams.com) so that parties can contact it directly with questions about the Project.

Dated: July 18, 2014.
Kimberly D. Bose,
Secretary.

[FR Doc. 2014-17756 Filed 7-28-14; 8:45 am]

BILLING CODE 6717-01-P